DEPARTMENT OF HOUSING AND URBAN DEVELOPMENT

[Docket No. FR-4860-C-02]

Notice of Funding Availability for HOME Investment Partnerships Program (HOME) Competitive Reallocation of Funds To Provide Permanent Housing for the Chronically Homeless; Correction

AGENCY: Office of the Assistant Secretary for Community Planning and Development, HUD.

ACTION: Notice of funding availability; correction.

SUMMARY: On October 15, 2003, HUD published the Notice of Funding Availability (NOFA) for the Competitive Reallocation of HOME Funds to Provide Permanent Housing for the Chronically Homeless. This notice corrects that funding announcement by notifying applicants of the new government-wide requirement that all applicants for federal grants and cooperative agreements must provide a Dun and Bradstreet Data Universal Numbering System (DUNS) number with their applications. In addition, this document makes a correction to the scoring assigned to certain HOME participating jurisdictions (PJs) found in Appendix 1 to the NOFA and changes the deadline for submission of applications to December 18, 2003.

FOR MORE INFORMATION CONTACT: Cliff Taffet, Office of Affordable Housing Programs, Office of Community Planning and Development, Department of Housing and Urban Development, 451 Seventh Street, SW., Washington DC, 20410-5000; telephone (202) 708-3226 ext. 4589 (this is not a toll-free number). Hearing- or speech-impaired individuals may access this number through TTY by calling the toll-free Federal Information Relay Service at (800) 877-8339.

SUPPLEMENTARY INFORMATION: On October 15, 2003 (68 FR 59450), HUD published its Notice of Funding Availability (NOFA) for the Competitive Reallocation of HOME Funds to Provide Permanent Housing for the Chronically Homeless. This notice published in today's Federal Register corrects the NOFA by requiring applicants to provide in their application package, a Dun and Bradstreet Data Universal Numbering System (DUNS) number. This correction is required by an Office of Management and Budget (OMB) policy directive issued in the Federal Register on June 27, 2003 (68 FR 38402). The policy directive requires all grant applicants to provide a DUNS number when applying for federal grants or cooperative agreements on or after October 1, 2003. This information was inadvertently left out of the October 15, 2003, NOFA.

In addition, it has come to our attention that in the NOFA published on October 15, 2003, the scoring for Selection Criterion 2C did not give recognition in all cases to Community Housing Development Organization (CHDO) set-aside funding in completed “mixed-funded” projects where “regular” (i.e., non-CHDO set-aside) HOME funds were also used. Therefore, nine PJs listed in Appendix 1 to the NOFA were improperly assigned 0 points when, in fact, their CHDO(s) had indeed completed rental projects of 5 or more units, as reported in IDIS (Integrated Disbursement and Information System) during the two year period ending June 30, 2003. Appendix A to this technical correction notice lists the nine PJs whose scores for Selection Criterion 2C are being raised to 15 based upon the re-running of the IDIS data to give proper credit to these “mixed-funded” projects. The total scores assigned to these PJs on the “pre-scored” portion of the competition are being adjusted accordingly.

As a consequence of the scoring change, which could affect the decision of these PJs to apply under the HOME competition, the deadline for submission of applications is being moved back to December 18, 2003.

All other guidance and requirements contained in the original NOFA, including the scores assigned to PJs not appearing on Appendix A, are unchanged.

Accordingly, the Notice of Funding Availability for the Competitive Reallocation of HOME Funds to Provide Permanent Housing for the Chronically Homeless, published in the Federal Register on October 15, 2003, (68 FR 59450) is corrected to read as follows:

1. On page 59450, in the first column under Program Overview and again under section I, Application Due Date, Standard Forms, Further Information, and Technical Assistance, the deadline for submission of applications is changed to December 18, 2003.

2. On page 59454, in the middle column, under section VI. entitled, “Application Requirements and Checklist for Application Submission,” a new paragraph at the end of this section to read as follows:

``New government-wide DUNS requirement. Beginning October 1, 2003, all applicants must provide a Dun and Bradstreet Data Universal Numbering System (DUNS) number to apply for a grant or cooperative agreement from the federal government. Applicants are required to provide a DUNS number with the application. OMB is currently updating the SF-424 to accommodate the submission of the DUNS, however, at this time, applicants should simply indicate the DUNS number on a separate sheet of paper and include with the application package. Organizations can receive a DUNS number at no cost by calling the dedicated toll-free DUNS Number request line at 1-866-705-5711 or applying on-line at www.dunandbradstreet.com. For faster service, HUD recommends using the telephone request line to obtain the DUNS number.”

3. On Appendix 1, beginning on page 59455, the scores assigned to nine participating jurisdictions for Selection Criterion 2C and, consequently, their total scores are changed. The specific PJs affected by this change are St. Petersburg, FL (page 59458); Dupage County Consortium, IL (page 59458); New Orleans, LA (page 59459); Quincy Consortium, MA (page 59460); Middlesex County Consortium, NJ (page 59462); Ocean County Consortium, NJ (page 59462); Altoona, PA (page 59463); Utah, UT (page 59465); and Bellingham, WA (page 59466). A list of the affected PJs and their revised scores is found on Appendix A to this notice.

Dated: November 10, 2003.
Roy A. Bernardi,
Assistant Secretary for Community Planning and Development.

BILLING CODE 4210-29-P

[FR Doc. 03-28666 Filed 11-14-03; 8:45am]

BILLING CODE 4210-29-C